DEPARTMENT OF HEALTH AND HUMAN SERVICES

Food and Drug Administration

[Docket Nos. 01D-0294 and 01D-0295]

Draft Guidances for Industry on Providing Regulatory Submissions to Office of Food Additive Safety in Electronic Format: General Considerations and for Food Additive and Color Additive Petitions; Availability

Correction

In notice document 01-18948 beginning on page 39517 in the issue of Tuesday, July 31, 2001, make the following correction:

On page 39521, in the first column under the heading V. Electronic Access, in the third line, “http://www.cfsan.fda.gov/@dms/opa-toc.html. ” should read “http://www.dfsan.fda.gov/~dms/opa-toc.html. ”

[FR Doc. C1-18948 Filed 8-1-01; 8:45 am]

BILLING CODE 1505-01-D

LIBRARY OF CONGRESS

Copyright Office

37 CFR Part 202

[Docket No. RM 2001-5]

Copyright Rules and Regulations: Copyright, Registration of Claims to Copyright, Freedom of Information, Privacy, Service of Process, Mask Works

Correction

In rule document 01-16188 beginning on page 34372 in the issue of Thursday, June 28, 2001, make the following corrections:

§202.2 [Corrected]

1. On page 34373, in the second column, in §202.2, in the first paragraph, in the third line “ad interim” should read “ad interim ”.

§202.17 [Corrected]

2. On the same page, in the same column, in §202.17, in the first paragraph, in the third line, “cum testamento annexo” should read “cum testamento annexo”.

3. On the same page, in the same column, in the same section, in the same paragraph, in the fifth line, “de bonis non cum testamento annexo” should read “de bonis non cum testamento annexo”.

[FR Doc. C1-16188 Filed 8-1-01; 8:45 am]

BILLING CODE 1505-01-D